DEPARTMENT OF THE INTERIOR

National Park Service

Lower St. Croix National Scenic Riverway; Environmental Impact Statement

AGENCY: National Park Service, Minnesota Department of Natural Resources, Wisconsin Department of Natural Resources.

ACTION: Notice of availability of the final cooperative management plan/final environmental impact statement for the Lower St. Croix National Scenic Riverway, Minnesota and Wisconsin.

SUMMARY: Pursuant to section 102(2) of the National Environmental Policy Act of 1969, the National Park Service, Minnesota Department of Natural Resources, and Wisconsin Department of Natural Resources announce the availability of the final cooperative management plan/final environmental impact statement (FCMP/FEIS) for the Lower St. Croix National Scenic Riverway.

The purpose of the cooperative management plan is to set forth the basic management philosophy for the riverway and to provide the strategies for addressing issues and achieving identified management objectives. The FCMP/FEIS describes and analyzes the environmental impacts of a proposed action and four action alternatives for the future management direction of the riverway. The FCMP/FEIS also evaluates a preferred management structure and two management structure options for the riverway. No action alternatives are evaluated for both management direction and management structure.

The responsible officials are Mr. William Schenk, Midwest Regional Director, National Park Service; Mr. Allen Garber, Commissioner, Minnesota Department of Natural Resources; and Mr. George Meyer, Secretary, Wisconsin Department of Natural Resources.

DATES: The no-action period on this FEIS will expire 30 days after the Environmental Protection Agency has published a notice of availability of the FEIS in the Federal Register.

ADDRESSES: Copies of the FCMP/FEIS are available by request by writing the Superintendent, Lower St. Croix National Scenic Riverway, P.O. Box 708, St. Croix Falls, WI 54024-0708, by telephone at 715-483-3284, extension 625 or by e-mail from SACN_Superintendent@nps.gov. The document can be picked-up in person at the Lower St. Croix National Scenic Riverway headquarters at 401 Hamilton Street North, St. Croix Falls, WI.

FOR FURTHER INFORMATION CONTACT: Superintendent, Lower St. Croix National Scenic Riverway at the address and telephone listed above.

SUPPLEMENTARY INFORMATION: The Lower St. Croix National Scenic Riverway is a narrow corridor that runs for 52 miles along the boundary of Minnesota and Wisconsin, from St. Croix Falls/Taylors Falls to the confluence with the Mississippi River at Prescott/Point Douglas. The National Park Service manages a portion of the upper 27 miles of lands and waters of this corridor. The states of Minnesota and Wisconsin administer the lower 25 miles. The states and the federal government jointly conduct planning for the riverway.

The Draft Cooperative Management Plan and Draft Environmental Impact Statement (DCMP/DEIS) for the Lower St. Croix National Scenic Riverway was released to the public on September 17, 1999. The public comment period ended November 30, 1999. About 650 copies of the document were distributed during this period. The managing agencies received almost 900 written responses during the public review period.

Modifications to the DGMP/DEIS have been made based on public comment received and on further impact analysis.

Dated: October 5, 2000.
William W. Schenk,
Regional Director, Midwest Region.

[FR Doc. 00-26604 Filed 10-16-00; 8:45 am]

BILLING CODE 4310-70-P